DEPARTMENT OF COMMERCE

National Oceanic and Atmospheric Administration

50 CFR Part 622

[Docket No. 230920-0228]

RIN 0648-BL93

Fisheries of the Caribbean, Gulf of Mexico, and South Atlantic; Snapper-Grouper Fishery of the South Atlantic Region; Amendment 49

AGENCY: National Marine Fisheries Service (NMFS), National Oceanic and Atmospheric Administration (NOAA), Commerce.

ACTION: Final rule.

SUMMARY: NMFS issues regulations to implement Amendment 49 to the Fishery Management Plan for the Snapper-Grouper Fishery of the South Atlantic Region (FMP), as prepared and submitted by the South Atlantic Fishery Management Council (Council). For greater amberjack, this final rule revises the sector annual catch limits (ACLs), the commercial minimum size limit, the commercial seasonal trip limits, and the April spawning season closure. In addition, Amendment 49 revises the overfishing limit (OFL), acceptable biological catch (ABC), annual optimum yield (OY), and sector allocations of the total ACL, as well as removes the recreational annual catch targets (ACTs) for species in the FMP. The purpose of this final rule and Amendment 49 is to ensure catch limits are based on the best scientific information available and to ensure overfishing does not occur for the South Atlantic greater amberjack stock, while increasing social and economic benefits.

DATES: This final rule is effective October 26, 2023.

ADDRESSES: An electronic copy of Amendment 49, which includes a fishery impact statement and a regulatory impact review, may be obtained from the Southeast Regional Office website at https://www.fisheries.noaa.gov/node/150641.

FOR FURTHER INFORMATION CONTACT: Mary Vara, telephone: 727-824-5305, or email: mary.vara@noaa.gov.

SUPPLEMENTARY INFORMATION: The South Atlantic snapper-grouper fishery includes greater amberjack and is managed under the FMP. The FMP was prepared by the Council and is implemented by NMFS through regulations at 50 CFR part 622 under the authority of the Magnuson-Stevens Fishery Conservation and Management Act (Magnuson-Stevens Act).

Background

The Magnuson-Stevens Act requires that NMFS and the regional fishery management councils prevent overfishing and achieve, on a continuing basis, the OY from federally managed fish stocks. These mandates are intended to ensure that fishery resources are managed for the greatest overall benefit to the Nation, particularly with respect to providing food production and recreational opportunities, and protecting marine ecosystems. To further this goal, the Magnuson-Stevens Act requires fishery managers to minimize bycatch and bycatch mortality to the extent practicable.

On June 21, 2023, NMFS published a notice of availability for Amendment 49 and requested public comment (88 FR 40190). On July 12, 2023, NMFS published a proposed rule for Amendment 49 and requested public comment (88 FR 44244). NMFS approved Amendment 49 on September 15, 2023. The proposed rule and Amendment 49 outline the rationale for the actions contained in this final rule. A summary of the management measures described in Amendment 49 and implemented by this final rule is described below.

In 2008, a stock assessment for greater amberjack was completed through the Southeast Data, Assessment, and Review (SEDAR) process (SEDAR 15), and it was determined that the stock was not overfished or undergoing overfishing. As a result of that stock status, the Comprehensive ACL Amendment to the FMP (77 FR 15915, March 16, 2012) established the current total ACL and annual OY.

The most recent SEDAR stock assessment for South Atlantic greater amberjack (SEDAR 59) was completed in 2020. The assessment included data through 2018 and used revised estimates for recreational catch from the Marine Recreational Information Program (MRIP) based on the Fishing Effort Survey (FES). In 2018, the MRIP fully transitioned its estimation of recreational effort from the Coastal Household Telephone Survey (CHTS) to the mail-based FES. Estimates of recreational catch for greater amberjack included in the previous assessment were made using the Marine Recreational Fisheries Statistics Survey (MRFSS) methodology. As explained in Amendment 49, total recreational fishing effort estimates generated from MRIP FES are different than those from the MRIP CHTS and MRFSS because MRIP FES is designed to more accurately measure fishing activity, not because there was a sudden change in fishing effort. The MRIP FES is considered a more reliable estimate of recreational effort by the Council's Scientific and Statistical Committee (SSC), the Council, and NMFS, and more robust compared to the MRFSS method previously used to estimate recreational catches for greater amberjack. The SSC reviewed SEDAR 59 (2020) and found that the assessment was conducted using the best scientific information available, and was adequate for determining stock status and supporting fishing level recommendations. The findings of the 2020 assessment indicated that the South Atlantic greater amberjack stock is not overfished or undergoing overfishing.

Updated catch and data changes incorporated in the assessment provided information to update the OFL, ABC, annual OY, and ACLs. In response to the results of SEDAR 59 (2020), the Council subsequently developed Amendment 49.

In addition to the revisions to the sector ACLs and seasonal commercial quotas, the Council determined that further modifications to greater amberjack management measures are needed to ensure that overfishing does not occur, while increasing social and economic benefits through sustainable harvest of greater amberjack in the South Atlantic exclusive economic zone (EEZ). Amendment 49 also makes changes to the FMP by removing recreational ACTs from the FMP to make administrative efforts more efficient, since the Council has not used, and does not anticipate using, recreational ACTs for snapper-grouper management.

Management Measures Contained in This Final Rule

This final rule revises the sector annual ACLs, seasonal commercial quotas, commercial minimum size limit, commercial Season 2 trip limit, and the April spawning closure for South Atlantic greater amberjack.

Total ACLs

The current total ACL and annual OY for greater amberjack are equal to the current ABC of 1,968,001 lb (892,670 kg), round weight. The current ABC includes recreational estimates from the MRFSS. In Amendment 49, the Council revised the ABC based on SEDAR 59 and the recommendation of their SSC.

The fishing year for greater amberjack is March 1 through the end of February, requiring that ACL values are described as a combination of years. This final rule revises the total ACL and annual OY equal to the recommended ABC of 3,233,000 lb (1,466,464), round weight, for 2023-2024; 2,818,000 lb (1,278,223 kg), round weight, for 2024-2025; 2,699,000 lb (1,224,246), round weight, for 2025-2026; and 2,669,000 lb (1,210,638), round weight, for 2026-2027 and subsequent fishing years.

Sector Allocations and ACLs

Amendment 49 revises the commercial and recreational allocations of the total ACL for greater amberjack. The current sector ACLs for greater amberjack are based on the current commercial and recreational allocations of the total ACL at 40.66 percent and 59.34 percent, respectively. The current allocations were established by applying the formula of sector ACL = ((mean landings 2006-2008) * 0.5)) + ((mean landings 1986-2008) * 0.5) to the landings dataset that were used in the Comprehensive ACL Amendment.

The revised greater amberjack sector allocations in Amendment 49 result in commercial and recreational allocations of 35.00 percent and 65.00 percent, respectively. The Council based the revised allocations on the current allocation equation, updated estimates of recreational landings from the MRIP FES method, and a consideration of economic and social impacts to the commercial and recreational sectors. The revised sector allocations are approximate midpoints between the current allocations, and the allocations that result from applying the current allocation formula to a revised dataset that is inclusive of MRIP-FES, which results in commercial and recreational allocations of the total ACL at 29.84 percent and 70.16 percent, respectively. While the Council increased the recreational allocation percentage to account for the increase in recreational catch estimates under the new MRIP FES estimation method, the Council chose to increase the recreational allocation to 65.00 percent, instead of 70.16 percent to account for potential adverse economic and social impacts to the commercial sector. Several recently completed stock assessments for other snapper-grouper species have indicated poor stock status and necessitated reduced harvest of these stocks, making greater amberjack potentially more important to the commercial sector. The revised greater amberjack sector allocation percentages also approximate the average annual total landings percentages for each sector from 2010-2019.

NMFS has determined that the sector allocations in Amendment 49 will result in an appropriate balance between the needs of the commercial and recreational sectors to maximize harvest opportunities and is fair and equitable to fishery participants in both sectors. This allocation is also reasonably calculated to promote conservation and is a wise use of the resource, since it achieves OY and is based upon an ABC that incorporates the best scientific information available. NMFS acknowledges that the recreational sector will benefit with an increase to their allocation, and that the recreational sector management measures and accountability measures (AMs) are in place to prevent overages of the recreational ACL.

The commercial quota for greater amberjack is equivalent to the commercial ACL. The final rule for Regulatory Amendment 27 to the FMP established two commercial fishing seasons and divided the commercial quota between the seasons to lengthen the greater amberjack commercial season and allow for a more equitable distribution and price stability of the greater amberjack resource throughout the South Atlantic (85 FR 4588, January 27, 2020). Regulatory Amendment 27 allocated 60 percent of the commercial quota to Season 1 (March through August), and 40 percent of the quota to Season 2 (September through February). Any remaining commercial quota from Season 1 is added to the commercial quota in Season 2. Any remaining quota from Season 2 is not carried forward into the next fishing year. This final rule does not alter the current fishing seasons or seasonal allocations of the commercial ACL.

Currently, the commercial ACL is 769,388 lb (348,989 kg), gutted weight. The commercial Season 1 quota is 461,633 lb (209,393 kg), gutted weight. The commercial Season 2 quota is 307,755 lb (139,595 kg), gutted weight.

This final rule revises the commercial ACLs to be 1,088,029 lb (493,522 kg), gutted weight, for 2023-2024; 948,365 lb (430,171 kg), gutted weight, for 2024-2025; 908,317 lb (412,006 kg), gutted weight, for 2025-2026; and 898,221 lb (407,426 kg), gutted weight, for 2026-2027 and subsequent fishing years.

The commercial Season 1 quotas will be 652,817 lb (296,113 kg), gutted weight, for 2023-2024; 569,019 lb (258,103 kg), gutted weight, for 2024-2025; 544,990 lb (247,203 kg), gutted weight, for 2025-2026; and 538,933 lb (244,456 kg), gutted weight, for 2026-2027 and subsequent fishing years.

The commercial Season 2 quotas will be 435,212 lb (197,409 kg), gutted weight, for 2023-2024; 379,346 lb (172,068 kg), gutted weight, for 2024-2025; 363,327 lb (164,802 kg), gutted weight, for 2025-2026; and 359,288 lb (162,970 kg), gutted weight, for 2026-2027 and subsequent fishing years.

The current recreational ACL is 1,167,837 lb (529,722 kg), round weight. The recreational ACLs in this final rule are 2,101,450 lb (953,202 kg), round weight, for 2023-2024; 1,831,700 lb (830,845 kg), round weight, for 2024-2025; 1,754,350 lb (795,760 kg), round weight, for 2025-2026; and 1,734,850 lb (786,915 kg), round weight, for 2026-2027 and subsequent fishing years.

Commercial Minimum Size Limit

The final rule for Amendment 4 to the FMP (56 FR 56016, October 31, 1991) implemented the current minimum size limit for the commercial sector of 36 inches (91.4 cm), fork length (FL).

This final rule reduces the commercial minimum size limit to 34 inches (86.4 cm), FL. NMFS has determined that reducing the minimum size limit should reduce regulatory discards, reduce the risk of shark depredation, and more align with the greater commercial desirability for smaller fish. A reduction to 34 inches (86.4 cm), FL, is not likely to jeopardize the current positive stock status, given other management constraints on the commercial sector such as in-season AMs, trip limits, and split season quotas.

Seasonal Commercial Trip Limits

The final rule for Regulatory Amendment 27 revised the commercial trip limit for greater amberjack to the current limits of 1,200 lb (544 kg) during Season 1, and 1,000 lb (454 kg) during Season 2 (in round or gutted weight).

This final rule increases the Season 2 trip limit for greater amberjack to 1,200 lb (544 kg), which should provide more regulatory consistency by having the same commercial trip limit throughout the year. NMFS acknowledges that the analyses considered in Amendment 49 indicate that under the 1,200 lb (544 kg) trip limit, the commercial sector is not expected to experience a closure in Season 2. Having the same trip limit throughout the fishing year will best meet the purpose of revising the commercial trip limit to increase the efficiency of commercial fishing for greater amberjack, while minimizing adverse social and economic effects.

April Spawning Closure

The peak spawning month for greater amberjack is during April and spawning aggregations are vulnerable to fishing effort during that time of the year. As a result of concerns of high catch rates of greater amberjack in spawning aggregations, the final rule for Amendment 4 implemented a spawning season closure for the commercial harvest of greater amberjack during April, in which commercial fishermen were restricted to a 3 fish per person per day limit (the same as the recreational bag limit at the time). To further enhance the protection to spawning greater amberjack, the final rule for Amendment 9 to the FMP revised those commercial possession limits and the sale and purchase restrictions (64 FR 3624, February 24, 1999). Currently, during April each year, for both the commercial and recreational sectors, no person may sell or purchase a greater amberjack harvested from the South Atlantic EEZ and the harvest and possession limit is one per person per day or one per person per trip, whichever is more restrictive.

This final rule revises the April spawning closure restrictions for both the commercial and recreational sectors from April 1 through April 30, to not allow any person to fish for, harvest, or possess a greater amberjack from the South Atlantic EEZ and the harvest and possession limits will be zero. The sale or purchase of greater amberjack will continue to be prohibited in April. The additional protections will be beneficial for greater amberjack during this portion of their peak spawning period (April-May), and NMFS agrees that both sectors should be included in this effort by not allowing either sector to harvest greater amberjack.

Management Measures in Amendment 49 Not Codified by This Final Rule

In addition to the measures within this final rule, Amendment 49 revises the OFL for greater amberjack and sets the total ACL and annual OY equal to the ABC. The amendment also revises the sector allocations as described above. Additionally, the use of the recreational ACT is removed for species managed under the FMP.

OFL, ABC, and Annual OY

As implemented through the Comprehensive ACL Amendment, the current OFL for greater amberjack is 2,005,000 lb (909,453 kg), round weight. The current total ACL and annual OY are equal to the ABC of 1,968,001 lb (892,670 kg), round weight. All of these current values include recreational landings for greater amberjack tracked using MRFSS estimation methods, and these values were based on the SEDAR 15 stock assessment (2008).

In 2021, the Council's SSC recommended to the Council new OFL and ABC levels based on SEDAR 59 (2020). As discussed above, SEDAR 59 and the associated OFL and ABC recommendations for greater amberjack incorporated the revised estimates for recreational catch and effort from the MRIP FES. The Council accepted the SSC's recommendations, and the Council's choice of new OFL and ABC values within Amendment 49 also represent the best scientific information available as determined by the Council's SSC and NMFS.

As described in Amendment 49, the revised OFL values are 3,283,000 lb (1,489,144 kg), round weight, for 2023; 2,839,000 lb (1,287,749 kg), round weight, for 2024; 2,719,000 lb (1,233,318 kg), round weight, for 2025; and 2,691,000 lb (1,220,617 kg), round weight, for 2026.

The Council chose to specify OY for greater amberjack on an annual basis and set it equal to the ABC and total ACL, in accordance with the guidance provided in the Magnuson-Stevens Act National Standard 1 Guidelines at 50 CFR 600.310(f)(4)(iv).

Recreational ACTs

Recreational ACTs for the species in the FMP were established through the Comprehensive ACL Amendment to account for uncertainty in recreational catch estimates. They are calculated using the formula: ACT = ACL * [(1-PSE) OR 0.5, whichever is greater], where ACL is the recreational ACL and PSE is the average of percent standard errors for recreational harvest estimates from the 5 most recent years of data. Recreational ACTs for snapper-grouper are not codified in the regulations, and are not currently used for management purposes. However, because the recreational ACT is derived from the recreational ACL, the recreational ACT values have continued to be updated in the FMP when ACLs are changed.

This final rule removes recreational ACTs for species managed under the FMP, from both individual species and complexes. Removing recreational ACTs from the FMP will make administrative efforts by the Council more efficient, since the Council has not actively used the ACTs, and does not anticipate using them for management in the FMP.

Comments and Reponses

NMFS received three comments from the public during the comment period on the notice of availability and the proposed rule for Amendment 49. NMFS agrees with the one comment in favor of the actions in Amendment 49 and the proposed rule. Comments that were outside the scope of Amendment 49 and the proposed rule, including comments about shark management, are not addressed further in this final rule. One comment which opposed some actions in Amendment 49 and the proposed rule is summarized below, along with NMFS' response. No changes were made to this final rule as a result of public comment.

Comment 1: The commercial minimum size limit should not be reduced while the commercial catch limits are simultaneously increased. There is not enough scientific evidence to support these proposed changes in Amendment 49.

Response: NMFS disagrees that implementing a commercial size minimum limit reduction and a catch limit increase should not occur. Amendment 49 is based on the most recent stock assessment for South Atlantic greater amberjack (SEDAR 59, 2020). NMFS has determined that the assessment was conducted using the best scientific information available and was adequate for determining stock status and supporting fishing level recommendations. As described in Amendment 49, SEDAR 59 determined that the South Atlantic greater amberjack stock is not overfished or undergoing overfishing. Catch level and data changes incorporated in the assessment provided information to update the OFL, ABC, annual OY, and ACLs. The new OFL and ABC are based on results of the stock assessment, and the total ACL and annual OY are also revised based on the assessment. Therefore, NMFS determines that Amendment 49 and this final rule that increases the harvest levels for greater amberjack in the South Atlantic based on SEDAR 59 is consistent with the best scientific information available. NMFS considers these harvest levels to be sustainable and will not negatively impact the health of the stock.

The action to reduce the commercial minimum size limit was included in Amendment 49 in response to public feedback received during the development of the amendment and also from the Council's Snapper-Grouper Advisory Panel. The reduction of the commercial minimum size limit from 36 inches (91.4 cm), FL, to 34 inches (86.4 cm), FL, is expected to increase commercial harvest but also reduce regulatory discards by allowing a larger amount of smaller fish that would be discarded to be kept, reduce the risk of shark depredation, and align with the greater commercial desirability for smaller fish.

NMFS has determined that reducing the commercial minimum size limit while also increasing catch limits is appropriate and meets the purpose of increasing efficiency of commercial fishing for greater amberjack while helping to minimize adverse social and economic effects. NMFS believes that these changes are not likely to jeopardize the positive stock status, given other management constraints on the commercial sector such as in-season AMs, trip limits, and split season quotas.

Classification

Pursuant to section 304(b)(3) of the Magnuson-Stevens Act, the NMFS Assistant Administrator has determined that this final rule is consistent with Amendment 49, the FMP, the Magnuson-Stevens Act, and other applicable laws.

This final rule has been determined to be not significant for purposes of Executive Order 12866.

The Magnuson-Stevens Act provides the statutory basis for this rule. No duplicative, overlapping, or conflicting Federal rules have been identified. A description of this final rule, why it is being implemented, and the purpose of this final rule are contained in the SUMMARY and SUPPLEMENTARY INFORMATION sections of this final rule.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

List of Subjects in 50 CFR Part 622

Commercial, Fisheries, Fishing, Greater amberjack, Recreational, South Atlantic.

Dated: September 20, 2023.
Samuel D. Rauch, III
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. In § 622.183, add paragraph (b)(10) to read as follows:

§ 622.183 Area and seasonal closures.

* * * * *

(b) * * *

(10) Greater amberjack spawning season closure. From April 1 through April 30, each year, no person may fish for, harvest, or possess in or from the South Atlantic EEZ any greater amberjack. For a person on board a vessel for which a valid Federal commercial or charter vessel/headboat permit for South Atlantic snapper-grouper has been issued, these prohibitions against fishing, harvesting, or possessing apply in the South Atlantic, i.e., in state or Federal waters. Such greater amberjack are also subject to the prohibition on sale or purchase, as specified in § 622.192(g).

§ 622.184 [Removed and Reserved]

3. Remove and reserve § 622.184.

4. In § 622.185, revise paragraph (c)(5) to read as follows:

§ 622.185 Size limits.

* * * * *

(c) * * *

(5) Greater amberjack—28 inches (71.1 cm), fork length, for a fish taken by a person subject to the bag limit specified in § 622.187(b)(1) and 34 inches (86.4 cm), fork length, for a fish taken by a person not subject to the bag limit.

* * * * *

5. In § 622.190, revise paragraph (a)(3) to read as follows:

§ 622.190 Quotas.

* * * * *

(a) * * *

(3) Greater amberjack—(i) For the period of March 1 through August 31 each year.

(A) For the 2023-2024 fishing year, 652,817 lb (296,113 kg).

(B) For the 2024-2025 fishing year, 569,019 lb (258,103 kg).

(C) For the 2025-2026 fishing year, 544,990 lb (247,203 kg).

(D) For the 2026-2027 and subsequent fishing years, 538,933 lb (244,456 kg).

(ii) For the period of September 1 through the end of February each year.

(A) For the 2023-2024 fishing year, 435,212 lb (197,409 kg).

(B) For the 2024-2025 fishing year, 379,346 lb (172,068 kg).

(C) For the 2025-2026 fishing year, 363,327 lb (164,802 kg).

(D) For the 2026-2027 and subsequent fishing years, 359,288 lb (162,970 kg).

* * * * *

6. In § 622.191, revise paragraph (a)(5) to read as follows:

§ 622.191 Commercial trip limits.

* * * * *

(a) * * *

(5) Until the applicable commercial quota specified in § 622.190(a)(3) is reached—1,200 lb (544 kg). See § 622.190(c)(1) for the limitations regarding greater amberjack after the applicable commercial quota is reached.

* * * * *

7. In § 622.193, revise the section heading and paragraph (k) to read as follows:

§ 622.193 Annual catch limits (ACLs) and accountability measures (AMs).

* * * * *

(k) Greater amberjack—(1) Commercial sector.

(i) If commercial landings for greater amberjack, as estimated by the SRD, reach or are projected to reach the applicable commercial ACL (commercial quota) specified in § 622.190(a)(3), the AA will file a notification with the Office of the Federal Register to close the commercial sector for that portion of the fishing year applicable to the respective quota. Applicable restrictions after a commercial quota closure are specified in § 622.190(c).

(ii) If commercial landings for greater amberjack, as estimated by the SRD, exceed the commercial ACL, and the combined commercial and recreational ACL as specified in paragraph (k)(3) of this section is exceeded during the same fishing year, and the species is overfished based on the most recent Status of U.S. Fisheries Report to Congress, the AA will file a notification with the Office of the Federal Register to reduce the commercial ACL in the following fishing year by the amount of the commercial ACL overage in the prior fishing year. The total commercial ACL is 1,088,029 lb (493,522 kg), gutted weight, for the 2023-2024 fishing year; 948,365 lb (430,171 kg), gutted weight, for the 2024-2025 fishing year; 908,317 lb (412,006 kg), gutted weight, for the 2025-2026 fishing year; and 898,221 lb (407,426 kg), gutted weight, for the 2026-2027 and subsequent fishing years.

(2) Recreational sector. (i) If recreational landings for greater amberjack, as estimated by the SRD, reach or are projected to reach the recreational ACL, the AA will file a notification with the Office of the Federal Register to close the recreational sector for the remainder of the fishing year regardless of whether the stock is overfished, unless NMFS determines that no closure is necessary based on the best scientific information available. On and after the effective date of such a notification, the bag and possession limits for greater amberjack in or from the South Atlantic EEZ are zero. The recreational ACL is 2,101,450 lb (953,202 kg), round weight, for the 2023-2024 fishing year; 1,831,700 lb (830,845 kg), round weight, for the 2024-2025 fishing year; 1,754,350 lb (795,760 kg), round weight, for the 2025-2026 fishing year; and 1,734,850 lb (786,915 kg), round weight, for the 2026-2027 and subsequent fishing years.

(ii) If recreational landings for greater amberjack, as estimated by the SRD, exceed the recreational ACL, then during the following fishing year recreational landings will be monitored for a persistence in increased landings, and if necessary, the AA will file a notification with the Office of the Federal Register to reduce the length of the recreational fishing season and recreational ACL by the amount of the recreational ACL overage, if the species is overfished based on the most recent Status of U.S. Fisheries Report to Congress, and if the combined commercial and recreational ACL specified in paragraph (k)(3) of this section, is exceeded during the same fishing year. The AA will use the best scientific information available to determine if reducing the length of the recreational season and recreational ACL is necessary. When the recreational sector is closed as a result of NMFS reducing the length of the recreational fishing season and ACL, the bag and possession limits for greater amberjack in or from the South Atlantic EEZ are zero.

(3) Combined commercial and recreational ACLs. The combined commercial and recreational ACL for greater amberjack is 3,233,000 lb (1,466,464 kg), round weight, for the 2023-2024 fishing year; 2,818,000 lb (1,278,223 kg), round weight, for the 2024-2025 fishing year; 2,699,000 lb (1,224,246 kg), round weight, for the 2025-2026 fishing year; and 2,669,000 lb (1,210,638 kg), round weight, for the 2026-2027 and subsequent fishing years.

* * * * *

[FR Doc. 2023-20798 Filed 9-25-23; 8:45 am]

BILLING CODE 3510-22-P